DEPARTMENT OF COMMERCE

National Institute of Standards and Technology

[090520915-9921-01]

Initial List of Smart Grid Interoperability Standards; Request for Comments

AGENCY: National Institute of Standards and Technology (NIST), Department of Commerce.

ACTION: Notice; request for comments.

SUMMARY: The National Institute of Standards and Technology (NIST) seeks comments on a preliminary set of smart grid interoperability standards and specifications identified for inclusion in the Smart Grid Interoperability Standards Framework, Release 1.0.

DATES: Comments must be received on or before July 9, 2009.

ADDRESSES: Written comments may be sent to: George Arnold, 100 Bureau Drive, Stop 8100, National Institute of Standards and Technology, Gaithersburg, MD 20899-8100. Electronic comments may be sent to: smartgridcomments@nist.gov.

The list of proposed standards and specifications is available at: http://www.nist.gov/smartgrid/standards.html. Additional information may be found at: http://www.nist.gov/smartgrid.

FOR FURTHER INFORMATION CONTACT: George Arnold, 100 Bureau Drive, Stop 8100, National Institute of Standards and Technology, Gaithersburg, MD 20899-8100, telephone (301) 975-5627.

SUPPLEMENTARY INFORMATION: Section 1305 of the Energy Independence and Security Act (EISA) of 2007 (Pub. L. 110-140) requires the Director of the National Institute of Standards and Technology (NIST) “to coordinate the development of a framework that includes protocols and model standards for information management to achieve interoperability of smart grid devices and systems.” NIST has identified an initial set of standards and specifications listed in the box below for inclusion in Release 1.0 of the Smart Grid Interoperability Standards Framework. Release 1.0 is a work in progress. It is not complete, nor is it exclusionary. Existing standards that do not appear in this first installment to Release 1.0 have not been eliminated from consideration. Standards that currently appear on the list ultimately may not be included.

This initial set of standards represents the first step in Phase I of the NIST three-phase plan for smart grid interoperability. The full plan is available at: http://www.nist.gov/public_affairs/smartgrid_041309.html.

To assist in carrying out its plan, NIST awarded a contract to Electric Power Research Institute (EPRI) to organize and facilitate two workshops, held on April 28-29, 2009 and May 19-20, 2009. Under its contract, EPRI is also required to use its technical expertise to compile, distill, and organize stakeholder contributions into a draft interim roadmap for smart grid interoperability standards. The proposed set of standards is based on input received from participants in the public Smart Grid Interoperability Standards Interim Roadmap Workshop I, held on April 28-29 in Reston, Virginia. Notes and outcomes of the workshop can be found at http://collaborate.nist.gov/twiki-sggrid/bin/view/_SmartGridInterimRoadmap/InterimRoadmapWorkshop1.

The more than 400 people who participated in the April 28-29 workshop represented a large cross-section of smart grid stakeholders. NIST recognizes, however, that not all interested stakeholders participated in the workshop. Arranged in alphabetical order, the list of proposed standards and specifications will be expanded as the process continues and as the standards framework is developed further to support the functionality envisioned for the Smart Grid and as technology evolves.

Although not included in this initial list, communication standards pertaining to basic connectivity and data networking are also important for Smart Grid interoperability. They will be part of the interoperability framework. Initial standards in these categories will be evaluated following the Smart Grid Interim Standards Roadmap Workshop II, held on May 19-20. Altogether, several hundred standards that are identified or developed over the span of several years may be required to achieve secure, end-to-end interoperability across a fully implemented Smart Grid.

NIST recognizes that the standards and specifications listed below will require further development and that many additional standards and specifications are needed to achieve interoperability of Smart Grid devices and systems. Updated versions of the Smart Grid Interoperability Framework will be published periodically to include additional standards as they are recognized by NIST and to remove standards from the list, as appropriate, as the coordination process moves forward.

—
Standard | Application
AMI-SEC System Security Requirements | Advanced metering infrastructure (AMI) and Smart Grid end-to-end security.
ANSI C12.19/MC1219 | Revenue metering information model.
BACnet ANSI ASHRAE 135-2008/ISO 16484-5 | Building automation.
DNP3 | Substation and feeder device automation.
IEC 60870-6/TASE.2 | Inter-control center communications.
IEC 61850 | Substation automation and protection.
IEC 61968/61970 | Application level energy management system interfaces.
IEC 62351 Parts 1-8 | Information security for power system control operations.
IEEE C37.118 | Phasor measurement unit (PMU) communications.
IEEE 1547 | Physical and electrical interconnections between utility and distributed generation (DG).
IEEE 1686-2007 | Security for intelligent electronic devices (IEDs).
NERC CIP 002-009 | Cyber security standards for the bulk power system.
NIST Special Publication (SP) 800-53, NIST SP 800-82 | Cyber security standards and guidelines for federal information systems, including those for the bulk power system.
Open Automated Demand Response (Open ADR) | Price responsive and direct load control.
OpenHAN | Home Area Network device communication, measurement, and control.
ZigBee/HomePlug Smart Energy Profile | Home Area Network (HAN) Device Communications and Information Model.

Authority: Section 1305 of the Energy Independence and Security Act of 2007 (Pub. L. 110-140).

Request For Comments: NIST seeks comments on the list of standards and specifications identified for inclusion in Release 1.0 of the Smart Grid Interoperability Standards Framework. NIST intends to publish and request comments on several draft versions (Releases) of the Smart Grid Interoperability Standards Framework and will provide an analysis of all comments received with its publication of the final Release.

E.O. 12866: This notice has been determined not to be significant for the purposes of E.O. 12866.

Dated: June 3, 2009.
Patrick Gallagher,
Deputy Director, NIST.

[FR Doc. E9-13514 Filed 6-8-09; 8:45 am]

BILLING CODE 3510-13-P